DEPARTMENT OF COMMERCE

National Oceanic and Atmospheric Administration

[I.D. 080101D]

South Atlantic Fishery Management Council; Public Meetings

AGENCY: National Marine Fisheries Service (NMFS), National Oceanic and Atmospheric Administration (NOAA), Commerce.

ACTION: Notice of public meetings.

SUMMARY: The South Atlantic Fishery Management Council will hold meetings of its Habitat Advisory Panel (AP), Coral Advisory Panel, Marine Protected Areas Advisory Panel, Snapper Grouper Advisory Panel, Law Enforcement Advisory Panel, Wreckfish Advisory Panel and a meeting of the Marine Protected Areas Committee in Charleston, South Carolina.

DATES: The meetings will be held on August 28, 2001 through August 31, 2001. See SUPPLEMENTARY INFORMATION for specific dates and times.

ADDRESSES: These meetings will be held at the Town and Country Inn, 2008 Savannah Highway, Charleston, SC 29407; telephone: 843-571-1000.

Council address: South Atlantic Fishery Management Council, One Southpark Circle, Suite 306, Charleston, SC 29407-4699.

FOR FURTHER INFORMATION CONTACT: Kim Iverson, Public Information Officer; telephone: (843) 571-4366; fax: (843) 769-4520; email: kim.iverson@noaa.gov.

SUPPLEMENTARY INFORMATION: August 28, 2001, from 8:30 a.m. until 5:30 p.m., the Habitat Advisory Panel (AP) will meet.

August 29, 2001, from 8:30 a.m. until noon, the Habitat AP and Coral AP will meet.

August 29, 2001, from 1:30 p.m. until 5:30 p.m., the joint meeting of the Habitat AP, Coral AP, Marine Protected Areas AP, Snapper Grouper AP, Law Enforcement AP and Wreckfish Advisory Panels will take place.

August 30, 2001, from 8:30 a.m. until 5:30 p.m., the joint meeting will continue.

August 31, 2001, from 8:30 a.m. until 5 p.m., the Marine Protected Areas Committee will meet.

The Habitat Advisory Panel will meet August 28, 2001 and on August 29, 2001, in conjunction with the Coral Advisory Panel. Issues to be discussed include but are not limited to: review and evaluation of a draft list of marine protected areas for the South Atlantic region, snapper grouper spawning locations, research efforts at offshore habitat areas “The Point” in North Carolina and “The Charleston Bump” in South Carolina, dredging, sand mining and beach renourishment activities and policy statement development (including state efforts), workshop process for review and updating designated Essential Fish Habitat (EFH) and Essential Fish Habitat-Habitat Areas of Particular Concern, EFH Assessment process, ecosystem management - process for development of an EcoPath Model for the South Atlantic Bight, National Coalition for Marine Conservation report on prey/predator interactions and management implications, development of a draft research plan for Gray's Reef State National Marine Sanctuary, Sargassum management status, status of Oculina Bank research efforts, updated Southeast Area Monitoring and Assesssment Program (SEAMAP) and Minerals Management Service (MMS) bottom mapping efforts, status of deepwater habitat mapping initiative, NOAA initiatives (Islands in the Stream, Sustainable Seas, and Ocean and Coastal Exploration), and expansion of the Council’s Habitat Homepage.

A joint meeting of the Marine Protected Areas Advisory Panel, Habitat AP, Coral AP, Snapper Grouper AP, Law Enforcement AP, Wreckfish AP, will be held August 29-30, 2001. Advisory panel members will hear a presentation on current data collection methods and analysis in regards to marine protected areas (MPAs). Following the presentation, AP members will discuss proposed MPAs in the south Atlantic based on location, species composition, habitat composition, enforcement issues, and social and economic importance. Based on these discussions, the AP members will develop recommendations on which sites will be forwarded to the Marine Protected Areas Committee.

The Council's Marine Protected Areas Committee will meet August 31, 2001, to review recommendations regarding MPA sites from the joint AP meeting and develop Committee recommendations to forward to the South Atlantic Fishery Management Council.

Although non-emergency issues not contained in this agenda may come before these groups for discussion, those issues may not be the subject of formal action during these meetings. Action will be restricted to those issues specifically identified in this notice and any issues arising after publication of this notice that require emergency action under section 305 (c) of the Magnuson-Stevens Fishery Conservation and Management Act, provided the public has been notified of the Council’s intent to take final action to address the emergency.

Special Accommodations

These meetings are physically accessible to people with disabilities. Requests for sign language interpretation or other auxiliary aids should be directed to the Council office (see ADDRESSES) by August 24, 2001.

Dated: August 2, 2001.
Richard W. Surdi,
Acting Director, Office of Sustainable Fisheries, National Marine Fisheries Service.

[FR Doc. 01-19903 Filed 8-7-01; 8:45 am]

BILLING CODE 3510-22-S